FEDERAL COMMUNICATIONS COMMISSION

[CG Docket No. 03-123; DA 07-3996]

Notice of Certification of CSDVRS, LLC as a Provider of Video Relay Service (VRS) Eligible for Compensation From the Interstate Telecommunications Relay Service (TRS) Fund

AGENCY: Federal Communications Commission.

ACTION: Notice.

SUMMARY: In this document, the Commission's Consumer and Governmental Affairs Bureau (Bureau) grants the application of CSDVRS, LLC (CSDVRS) for certification as a VRS provider eligible for compensation from the Interstate TRS Fund (Fund). The Commission concludes that CSDVRS has demonstrated sufficiently that its provision of VRS will meet or exceed all operational, technical, and functional TRS standards set forth in the Commission's rules; that it makes available adequate procedures and remedies for ensuring compliance with applicable Commission rules; and that to the extent CSDVRS's service differs from the mandatory minimum standards, the service does not violate the rules.

DATES: Effective September 21, 2007.

FOR FURTHER INFORMATION CONTACT: Gregory Hlibok, Consumer and Governmental Affairs Bureau, Disability Rights Office at (800) 311-4381 (Voice), (202) 418-0431 (TTY), or e-mail at Gregory.Hlibok@fcc.gov.

SUPPLEMENTARY INFORMATION: This is a summary of the Bureau's document DA 07-3996, released September 21, 2007, addressing CSDVRS's application for certification as a VRS provider eligible for compensation from the Fund. See Notice of Certification of CSDVRS, LLC as a Provider of Video Relay Service (VRS) Eligible for Compensation from the Interstate Telecommunications Relay Service (TRS) Fund, CG Docket No. 03-123, Public Notice, 22 FCC Rcd 17014 (CGB 2007). The full texts of document DA 07-3996 and CSDVRS's application are available for public inspection and copying during regular business hours at the FCC Reference Information Center, Portals II, 445 12th Street, SW., Room CY-A257, Washington, DC 20554. These documents also may be purchased from the Commission's duplicating contractor at Portals II, 445 12th Street, SW., Room CY-B402, Washington, DC 20554; the contractor's Web site, http://www.bcpiweb.com; or by calling (800) 378-3160. To request materials in accessible formats for people with disabilities (Braille, large print, electronic files, audio format), send an e-mail to fcc504@fcc.gov or call the Consumer and Governmental Affairs Bureau at (202) 418-0530 (voice) or (202) 418-0432 (TTY). Document DA 07-3996 also can be downloaded in Word or Portable Document Format (PDF) at: http://www.fcc.gov/cgb/dro/trs.html. In addition, CSDVRS's application also may be found by searching in the Commission's Electronic Comment Filing System (ECFS) at http://www.fcc.gov/cgb/ecfs (insert 03-123 into the Proceeding block).

Synopsis

On July 16, 2007, CSDVRS filed an application for certification as a provider of VRS eligible for compensation from the Fund pursuant to the Commission's provider certification rules, adopted in Telecommunications Relay Services and Speech-to-Speech Services for Individuals with Hearing and Speech Disabilities, CG Docket No. 03-123, Report and Order and Order on Reconsideration, 20 FCC Rcd 20577 (2005); published at 70 FR 76208, December 23, 2005. CSDVRS's application is granted. The Bureau has reviewed CSDVRS's application pursuant to the provider certification rules. The Bureau concludes that CSDVRS has sufficiently demonstrated that its provision of VRS service will meet or exceed all operational, technical, and functional TRS standards set forth in 47 CFR 64.604; that it makes available adequate procedures and remedies for ensuring compliance with applicable Commission rules; and that to the extent CSDVRS's service differs from the mandatory minimum standards, the service does not violate the rules.

CSDVRS's application is granted subject to compliance with applicable Commission orders, including the declaratory ruling requiring the interoperability of VRS equipment and service. See Telecommunications Relay Services and Speech-to-Speech Services for Individuals with Hearing and Speech Disabilities, CG Docket No. 03-123, Declaratory Ruling and Further Notice of Proposed Rulemaking, 21 FCC Rcd 5442 (2006); published at 71 FR 30818, May 31, 2006 and 71 FR 30848, May 31, 2006. Further, CSDVRS must file an annual report with the Commission demonstrating that CSDVRS is in compliance with 47 CFR 64.604. The first such report shall be due one year after September 21, 2007, and subsequent reports shall be due each year thereafter. This certification shall remain in effect for a period of five years from September 21, 2007. Within ninety days prior to the expiration of this certification, CSDVRS may apply for renewal of its VRS service certification by filing documentation in accordance with the Commission's rules.

Federal Communications Commission.
Nicole McGinnis,
Deputy Chief, Consumer and Governmental Affairs Bureau.

[FR Doc. E8-19547 Filed 8-21-08; 8:45 am]

BILLING CODE 6712-01-P